DEPARTMENT OF COMMERCE

National Oceanic and Atmospheric Administration

50 CFR Part 648

[I.D. 010402A]

New England Fishery Management Council; Public Meeting Notification; Addendum

AGENCY: National Marine Fisheries Service (NMFS), National Oceanic and Atmospheric Administration (NOAA), Commerce.

ACTION: Addendum to a public meeting notification.

SUMMARY: On December 28, 2001, NMFS published a Federal Register notification announcing that the New England Fishery Management Council (Council) will hold a 3-day Council meeting on January 15 through 17, 2002, to consider actions affecting New England fisheries in the exclusive economic zone. This notification serves as an addendum to that notification and announces that in addition to the agenda items announced in the December 28th Federal Register notification, there will be a closed session on January 16, 2002, to discuss the lawsuit concerning Framework 33 to the Northeast Multispecies Fishery Management Plan. In addition, certain agenda items have been rescheduled as identified in the SUPPLEMENTARY INFORMATION section of this notification.

DATES: The meeting will be held on Tuesday, Wednesday, and Thursday, January 15, 16, and 17, 2002. The meeting will begin at 9 a.m. on Tuesday and 8:30 a.m. on Wednesday and Thursday. The closed session will be held at approximately 5 p.m. on January 16, 2002.

ADDRESSES: The meeting will be held at the Courtyard by Marriott, 1000 Market Street, Portsmouth, NH 03801; telephone (603) 436-2121. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION: In addition to the agenda items announced in the meeting notification published in the Federal Register on December 28, 2001 (66 FR 67166), the Council intends to convene a closed session on January 16, 2002, following the scallop agenda item at approximately 5 p.m. During this portion of the meeting, the Council will discuss the Conservation Law Foundation, et al., v. Evans lawsuit concerning Framework 33 to the Northeast Multispecies Fishery Management Plan and the Sustainable Fisheries Act requirements to address overfishing, stock rebuilding, and bycatch reduction.

Also, the Council announces that the briefing on the status of the U.S./Canada shared resources agreement originally scheduled for Tuesday, January 15th has been rescheduled for Thursday, January 17th. The Marine Protected Area Committee Report originally scheduled for Thursday, January 17th, will be given in place of the U.S. Canada Briefing on Tuesday, January 15th, following introductions.

Although other non-emergency issues not contained in this agenda may come before this Council for discussion, those issues may not be the subjects of formal action during this meeting. Council action will be restricted to those issues specifically listed in this notification and any issues arising after publication of this notice that require emergency action under section 305 (c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 7, 2002.
Jonathan M. Kurland,
Acting Director, Office of Sustainable Fisheries, National Marine Fisheries Service.

[FR Doc. 02-646 Filed 1-9-02; 8:45 am]

BILLING CODE 3510-22-S